SOCIAL SECURITY ADMINISTRATION

Agency Information Collection Activities: Emergency Consideration Request

The Social Security Administration (SSA) publishes a list of information collection packages that will require clearance by the Office of Management and Budget (OMB) in compliance with Pub.L. 104-13, the Paperwork Reduction Act of 1995, effective October 1, 1995. The information collection packages that may be included in this notice are for new information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, New Executive Building, Room 10235, 725 17th St., NW., Washington, DC 20503, Fax: 202-395-6974.

(SSA), Social Security Administration, DCFAM, Attn: Reports Clearance Officer, 1333 Annex Building, 6401 Security Blvd., Baltimore, MD 21235, Fax: 410-965-6400, OPLM.RCO@ssa.gov.

The information collection listed below has been submitted to OMB for expedited Emergency Clearance. SSA is requesting Emergency Consideration from OMB by 08/08/2005. Your comments on the information collection are requested by that date. You can obtain a copy of the OMB clearance package by calling the SSA Reports Clearance Officer at 410-965-0454, or by writing to the address listed above.

1. Medicare Modernization Act Subsidy Application Mailing Follow-Up Survey—0960-NEW. The Medicare Prescription Drug, Improvement, and Modernization Act of 2003 (MMA), Pub.L. 108-173, created a new voluntary prescription drug benefit program. The MMA stipulates that Medicare beneficiaries who meet income and resource limits are eligible to receive a subsidy for this program. Medicare beneficiaries who are not automatically enrolled in the subsidy program may apply for subsidy consideration using form OMB No. 0960-0696 (SSA-1020), the Application for Help with Medicare Prescription Drug Plan Costs.

Approximately 19 million Medicare recipients will receive form SSA-1020, which includes a cover letter encouraging them to complete and return the application form to the Social Security Administration (SSA) immediately. However, there are many applicants who may not immediately return their completed applications. The earlier SSA receives subsidy applications, the more time it has to confirm information on the applications, process them, and make a subsidy determination in anticipation of the January 2006 subsidy program's beginning. For this reason, SSA plans to conduct a phone survey of individuals who received the subsidy application but did not return it to SSA. The purpose of the survey is to encourage these individuals to return the completed application to SSA. Respondents are Medicare recipients who have been mailed form SSA-1020 but have not yet returned the form.

Type of Collection: Emergency information collection (new).

Number of Respondents: 15,000,000 (maximum).

Frequency of Response: 1.

Average Burden Per Response: 2.5 minutes.

Estimated Annual Burden: 625,000 hours.

Dated: July 19, 2005.
Elizabeth A. Davidson,
Reports Clearance Officer, Social Security Administration.

[FR Doc. 05-14628 Filed 7-25-05; 8:45 am]

BILLING CODE 4191-02-P